DEPARTMENT OF THE INTERIOR

National Park Service

[NPS-WASO-NAGPRA-NPS0026946; PPWOCRADN0-PCU00RP14.R50000]

Notice of Inventory Completion: Office of the State Archaeologist, University of Iowa, Iowa City, IA

AGENCY: National Park Service, Interior.

ACTION: Notice.

SUMMARY: The University of Iowa, Office of the State Archaeologist Bioarchaeology Program (OSA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the OSA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the OSA at the address in this notice by January 4, 2019.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains and associated funerary objects under the control of the University of Iowa, Office of the State Archaeologist Bioarchaeology Program, Iowa City, IA. The human remains and associated funerary objects were removed from the Blood Run site (13LO2), Lyon County, IA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the OSA professional staff in consultation with representatives of the Ho-Chunk Nation of Wisconsin; Iowa Tribe of Kansas and Nebraska; Iowa Tribe of Oklahoma; Omaha Tribe of Nebraska; Otoe-Missouria Tribe of Indians, Oklahoma; Ponca Tribe of Indians of Oklahoma; Ponca Tribe of Nebraska; and the Winnebago Tribe of Nebraska, hereafter referred to as “The Tribes.”

History and Description of the Remains

In 1964, human remains representing, at minimum, six individuals were removed from the Blood Run site (13LO2) in Lyon County, IA. The human remains were removed during an archeological excavation conducted by Dale Henning, and were stored at the University of Wisconsin. At an unknown date, these human remains were transferred to the University of Tennessee, Knoxville. In July 2018, the human remains were transferred to the Iowa Office of the State Archaeologist Bioarchaeology Program (OSA-BP). The human remains belong to two young subadults both between 2.5 and 3.5 years old; one young adult male; one middle adult male; one middle to old adult male; and one probable adult of unknown sex, who is represented by a single tooth (Burial Project 3335). No known individuals were identified. The two associated funerary objects are the tooth of a canine and a faunal long bone fragment.

During the second half of the 20th century, human remains representing, at minimum, one individual were removed from the Blood Run Site (13LO2) in Lyon County, IA. An incomplete mandible was recovered from the ground surface of the site by a private collector. In May 2017, the human remains were transferred to the OSA-BP. An adolescent aged 13.5 to 19.5 years is represented by the human remains (Burial Project 3198). No known individuals were identified. No associated funerary objects are present.

In 1886, human remains representing, at minimum, three individuals, were removed from the Blood Run Site (13LO2) in Lyon County, IA. The human remains were excavated under the direction of J. White and Frederick Starr. At an unknown date, likely before the turn of the 20th century, some of the human remains from this excavation were donated to the museum at Coe College (Accession #2101). In 2018, Coe College transferred the skeletal remains from 13LO2 to the OSA-BP. Two adults of indeterminate age and sex and one adolescent, 17 to 22 years old, are represented by the human remains (Burial Project 1934). No known individuals were identified. The one associated funerary object is an atlas from a canid, possibly a wolf.

The Blood Run site (13LO2) is a large Oneota tradition village located in Iowa and South Dakota, and straddling the Big Sioux River southeast of Sioux Falls, SD. Archeological evidence, including radiocarbon dates and trade artifacts, suggests that the site was occupied from A.D. 1500 to 1700. Tribal histories, supported by French historical maps and documents, suggest that the Omaha, Ponca, Iowa, and Oto tribes were present in the area at that time, and were the probable residents of the site. The Ho-Chunk and Winnebago are also ethno-historically linked to these tribes. Based on this contextual information, it has been determined that there is a relationship of shared group identity that can be reasonably traced between these Native American human remains and The Tribes.

Determinations Made by the Office of the State Archaeologist Bioarchaeology Program

Officials of the Office of the State Archaeologist Bioarchaeology Program have determined that:

• Pursuant to 25 U.S.C. 3001(9), the human remains described in this notice represent the physical remains of 10 individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Tribes.

Additional Requestors and Disposition

Lineal descendants or representatives of any Indian Tribe or Native Hawaiian organization not identified in this notice that wish to request transfer of control of these human remains and associated funerary objects should submit a written request with information in support of the request to Dr. Lara Noldner, Office of the State Archaeologist Bioarchaeology Program, University of Iowa, 700 S Clinton Street, Iowa City, IA 52242, telephone (319) 384-0740, email lara-noldner@uiowa.edu, by January 4, 2019. After that date, if no additional requestors have come forward, transfer of control of the human remains and associated funerary objects to The Tribes may proceed.

The University of Iowa, Office of the State Archaeologist Bioarchaeology Program is responsible for notifying The Tribes that this notice has been published.

Dated: November 7, 2018.
Melanie O'Brien,
Manager, National NAGPRA Program.

[FR Doc. 2018-26437 Filed 12-4-18; 8:45 am]

BILLING CODE 4312-52-P